DEPARTMENT OF HEALTH AND HUMAN SERVICES

Office of the Secretary

Community-Based Alternatives for Individuals With Disabilities

AGENCY: Office of the Secretary, HHS.

ACTION: Notice.

SUMMARY: Under Executive Order 13217, the Departments of Health and Human Services (HHS), Labor, Education, Justice, Housing and Urban Development and the Social Security Administration are undertaking an evaluation of each agency's policies, programs, statues and regulations to determine whether any should be revised or modified to improve the availability of community-based services for qualified individuals with disabilities. As the designated lead agency, HHS seeks public comments to inform each agency's evaluation.

FOR FURTHER INFORMATION CONTACT: Kari Benson, New Freedom Initiative Group, 202-205-0624.

DATES: All comments must be received on or before the close of business on August 27, 2001.

ADDRESSES: All comments should be addressed to the New Freedom Initiative Group, Department of Health and Human Services, P.O. Box 23271, Washington, D.C. 20036-3271. If possible, please send an electronic version of the comments on a 3½ inch DOS format floppy disk in a format that is accessible to everyone, including persons with disabilities, such as HTML, ASCII text, or popular word processor format (Microsoft Word, Corel WordPerfect). Comments may also be sent electronically via email to: newfreedom@cms.hhs.gov.

SUPPLEMENTARY INFORMATION: On June 18, 2001, President Bush signed Executive Order No. 13217 on Community-based Alternatives for Individuals with Disabilities. The Order commits the United States to community-based alternatives for individuals with disabilities and recognizes that such services advance the best interests of the United States. The Order calls upon the federal government to assist states and localities to swiftly implement the decision of the United States Supreme Court in Olmstead v. L.C. and directs specific federal agencies to review their policies, programs, statutes and regulations to determine whether any should be revised or modified to improve the availability of community-based services for individuals with disabilities. The review must focus on identifying affected populations, improving the flow of information about supports in the community, and removing barriers that impede opportunities for community placement. The review must also ensure the involvement of consumers, advocacy organizations, providers, and relevant agency representatives. The results of the evaluation must be reported, through the Department of Health and Human Services, to the President by October 16, 2001.

The specific agencies charged with undertaking this review are: the Department of Justice (DOJ), the Department of Health and Human Services (HHS), the Department of Education (DOE), the Department of Labor (DOL), Housing and Urban Development (HUD), and the Social Security Administration (SSA).

The agency self-evaluations focus upon identifying the appropriate role of the federal government to promote the ability of people with disabilities to live more independently in the community (close to families and friends), to engage in productive employment, and participate in community life.

To assist federal agencies in their review and self-evaluation, we invite the public to submit to us your specific written comments on issues such as barriers in federal law, policy and programs that limit the ability of people of any age who have a disability to achieve the above goals; actions that each of the designated agencies can take to address those barriers, improve the flow of information about community supports or aid in fulfillment of the ADA; and how federal programs can work together in support of enabling an individual with a disability to participate fully in the social end economic life of the community (e.g. health coverage, mental health services, social services, affordable and accessible housing, employment, caregiver support, and other services).

All comments should be submitted to the Department of Health and Human Services at the address noted above. As the coordinating federal agency, the Department will ensure that comments relating to programs administered by any of the other designated federal agencies will be submitted to those agencies for review in conjunction with that agency's review and self-evaluation.

Dated: July 25, 2001.
Tommy G. Thompson,
Secretary, Health and Human Services.

[FR Doc. 01-18854 Filed 7-26-01; 8:45 am]

BILLING CODE 4153-01-M